DEPARTMENT OF ENERGY

Federal Energy Regulatory Commission

Combined Notice of Filings #1

Take notice that the Commission received the following exempt wholesale generator filings:

Docket Numbers: EG20-202-000.

Applicants: G.S.E. One LLC.

Description: Notice of Self-Certification of Exempt Wholesale Generator Status of G.S.E. One LLC.

Filed Date: 7/2/20.

Accession Number: 20200702-5079.

Comments Due: 5 p.m. ET 7/23/20.

Take notice that the Commission received the following electric rate filings:

Docket Numbers: ER10-1484-020; ER13-1069-009; ER12-2381-006.

Applicants: Shell Energy North America (US), L.P., MP2 Energy LLC, MP2 Energy NE LLC.

Description: Updated Market Power Analysis for the Northeast Region of Shell Energy North America (US), L.P., et al.

Filed Date: 6/30/20.

Accession Number: 20200630-5534.

Comments Due: 5 p.m. ET 8/31/20.

Docket Numbers: ER10-1484-021; ER13-1069-010; ER12-2381-007.

Applicants: Shell Energy North America (US), L.P., MP2 Energy LLC, MP2 Energy NE LLC.

Description: Notice of Non-Material Change in Status of Shell Energy North America (US), L.P., et al.

Filed Date: 6/30/20.

Accession Number: 20200630-5540.

Comments Due: 5 p.m. ET 7/21/20.

Docket Numbers: ER10-1630-009; ER10-1586-009.

Applicants: Big Sandy Peaker Plant, LLC, Wolf Hills Energy, LLC.

Description: Notification of Change in Status of the Avenue MBR Sellers.

Filed Date: 7/1/20.

Accession Number: 20200701-5533.

Comments Due: 5 p.m. ET 7/22/20.

Docket Numbers: ER10-1819-026; ER10-1817-020; ER10-1818-021; ER10-1820-029.

Applicants: Northern States Power Company, a Minnesota corporation, Northern States Power Company a Wisconsin corporation, Public Service Company of Colorado, Southwestern Public Service Company.

Description: Notice of Change in Status of Northern States Power Company, a Minnesota corporation, et al. et al.

Filed Date: 7/1/20.

Accession Number: 20200701-5540.

Comments Due: 5 p.m. ET 7/22/20.

Docket Numbers: ER10-2895-021; ER14-1964-012; ER16-287-007; ER13-203-013; ER13-2143-014; ER10-3167-013: ER17-482-006; ER19-1074-005; ER11-3942-023; ER20-1447-002; ER10-2917-021; ER19-1075-005; ER19-529-005; ER19-2429-004; ER13-1613-014; ER10-2918-022; ER10-2920-021; ER11-3941-019; ER10-2921-021; ER10-2922-021; ER10-2966-021; ER11-2383-016; ER12-161-021; ER12-2068-017; ER10-2460-017; ER10-2461-018; ER12-682-018; ER10-2463-017; ER11-2201-021; ER13-17-015; ER12-1311-017; ER10-2466-018; ER11-4029-017.

Applicants: Bear Swamp Power Company LLC, BIF II Safe Harbor Holdings, LLC, BIF III Holtwood LLC, Black Bear SO, LLC, Black Bear Development Holdings, LLC, Black Bear Hydro Partners, LLC, BREG Aggregator LLC, Brookfield Energy Marketing Inc., Brookfield Energy Marketing LP, Brookfield Energy Marketing US LLC, Brookfield Power Piney & Deep Creek LLC, Brookfield Renewable Energy Marketing US, LLC, Brookfield Renewable Trading and Marketing, LP, Brookfield White Pine Hydro LLC, Carr Street Generating Station, L.P., Erie Boulevard Hydropower, L.P., Granite Reliable Power, LLC, Great Lakes Hydro America, LLC, Hawks Nest Hydro LLC, Rumford Falls Hydro LLC, Safe Harbor Water Power Corporation, Bishop Hill Energy, LLC, Blue Sky East, LLC, Canandaigua Power Partners, LLC, Canandaigua Power Partners II, LLC, Erie Wind, LLC, Evergreen Wind Power, LLC, Evergreen Wind Power III, LLC, Niagara Wind Power, LLC, Stetson Holdings, LLC, Stetson Wind II, LLC, Vermont Wind, LLC.

Description: Updated Market Power Analysis for the Northeast Region of the Brookfield Companies and Terra Form Companies.

Filed Date: 6/30/20.

Accession Number: 20200630-5525.

Comments Due: 5 p.m. ET 8/31/20.

Docket Numbers: ER10-2960-012; ER15-356-014; ER19-2231-004; ER15-357-014; ER19-2232-004; ER10-1595-015; ER18-2418-004; ER10-1598-015; ER10-1616-015; ER10-1618-015; ER18-1821-007.

Applicants: Astoria Generating Company, L.P., Chief Conemaugh Power, LLC, Chief Conemaugh Power II, LLC., Chief Keystone Power, LLC, Chief Keystone Power II, LLC., Crete Energy Venture, LLC., Great River Hydro, LLC, Lincoln Generating Facility, LLC, New Covert Generating Company, LLC, Walleye Power, LLC, Rolling Hills Generating, L.L.C.

Description: Updated Market Power Analysis for the Northeast Region of Astoria Generating Company, L.P.

Filed Date: 6/30/20.

Accession Number: 20200630-5498.

Comments Due: 5 p.m. ET 8/31/20.

Docket Numbers: ER12-1561-004; ER13-773-002; ER10-2481-005; ER13-33-006.

Applicants: Rensselaer Generating LLC, Roseton Generating LLC, Ingenco Wholesale Power, L.L.C., Collegiate Clean Energy, LLC.

Description: Triennial Filing for the Northeast Region of Rensselaer Generating LLC, et al.

Filed Date: 6/30/20.

Accession Number: 20200630-5520.

Comments Due: 5 p.m. ET 8/31/20.

Docket Numbers: ER13-55-025.

Applicants: Homer City Generation, L.P.

Description: Market Power Update of Homer City Generation, L.P.

Filed Date: 6/30/20.

Accession Number: 20200630-5542.

Comments Due: 5 p.m. ET 8/31/20.

Docket Numbers: ER13-823-007; ER18-239-001; ER18-236-001; ER18-234-001; ER18-238-001; ER18-237-001; ER13-2106-009.

Applicants: Castleton Commodities Merchant Trading, LP, GSP Lost Nation LLC, GSP Merrimack LLC, GSP Newington LLC, GSP Schiller LLC, GSP White Lake LLC, NedPower Mount Storm LLC.

Description: Triennial Filing of Castleton Commodities Merchant Trading, L.P., et al.

Filed Date: 6/30/20.

Accession Number: 20200630-5518.

Comments Due: 5 p.m. ET 8/31/20.

Docket Numbers: ER17-194-005.

Applicants: Hartree Partners, LP.

Description: Updated Market Power Analysis for the Northeast Region of Hartree Partners, LP.

Filed Date: 6/30/20.

Accession Number: 20200630-5503.

Comments Due: 5 p.m. ET 8/31/20.

Docket Numbers: ER17-256-012; ER17-242-011; ER17-243-011; ER17-652-011; ER17-245-011.

Applicants: Darby Power, LLC, Gavin Power, LLC, Lawrenceburg Power, LLC, Waterford Power, LLC, Lightstone Marketing LLC.

Description: Updated Market Power Analysis of the Lightstone Northeast MBR Sellers.

Filed Date: 6/30/20.

Accession Number: 20200630-5527.

Comments Due: 5 p.m. ET 8/31/20.

Docket Numbers: ER18-1863-006; ER18-1534-006; ER13-752-013; ER10-1857-014; ER10-1899-014; ER10-1932-014; ER10-1935-014; ER10-1852-040; ER15-2601-006; ER14-1630-010; ER15-1835-001; ER11-4462-043; ER17-1774-004; ER17-838-018; ER10-1973-013; ER10-1951-022; ER10-1974-024; ER20-2012-001.

Applicants: Coolidge Solar I, LLC, East Hampton Energy Storage Center, LLC, Energy Storage Holdings, LLC, FPL Energy Cape, LLC, FPL Energy Illinois Wind, LLC, FPL Energy Wyman, LLC, FPL Energy Wyman IV, LLC, Florida Power & Light Company, Green Mountain Storage, LLC, Manuta Creek Solar, LLC, Montauk Energy Storage Center, LLC, NEPM II, LLC, NextEra Energy Bluff Point, LLC, NextEra Energy Marketing, LLC, NextEra Energy Seabrook, LLC, NextEra Energy Services Massachusetts, LLC, Northeast Energy Associates, A Limited Partnership, Orbit Bloom Energy, LLC.

Description: Northeast Region Triennial Market Power Update of the NextEra Companies.

Filed Date: 6/30/20.

Accession Number: 20200630-5535.

Comments Due: 5 p.m. ET 8/31/20.

Docket Numbers: ER19-158-005; ER10-2669-012; ER10-2670-012; ER10-2674-014; ER10-2585-008; ER19-2803-002; ER19-2806-002; ER15-1596-010; ER15-1598-007; ER15-1599-010; ER14-1569-010; ER15-1600-006; ER15-1602-006; ER10-2619-011; ER10-2616-017; ER15-1605-006; ER11-4400-014; ER15-1607-006; ER15-1608-006; ER19-2807-002; ER10-2421-003; ER12-1769-006; ER12-2250-004; ER10-1547-013; ER14-883-011; ER13-2475-012; ER17-1906-003; ER12-192-015; ER19-102-003; ER11-2457-003; ER11-3867-015; ER11-3857-015; ER10-1975-026; ER10-2617-010; ER10-2677-014; ER12-2253-004; ER12-2251-004; ER12-75-007; ER12-2252-005; ER11-4266-016; ER10-2613-008; ER14-2245-004; ER19-2811-002; ER19-2809-002; ER19-2810-002.

Applicants: Ambit Northeast, LLC, ANP Bellingham Energy Company, LLC, ANP Blackstone Energy Company, LLC, Calumet Energy Team, LLC, Casco Bay Energy Company, LLC, Cincinnati Bell Energy LLC, Connecticut Gas & Electric, Inc., Dynegy Commercial Asset Management., Dynegy Dicks Creek, LLC, Dynegy Energy Services (East), LLC, Dynegy Energy Services, LLC, Dynegy Fayette II, LLC, Dynegy Hanging Rock II, LLC, Dynegy Kendall Energy, LLC, Dynegy Marketing and Trade, LLC, Dynegy Miami Fort, LLC, Dynegy Power Marketing, LLC, Dynegy Washington II, LLC, Dynegy Zimmer, LLC, Energy Rewards, LLC, Energy Services Providers, Inc., Everyday Energy, LLC, Everyday Energy NJ, LLC, Hopewell Cogeneration Limited Partnership, Illinois Power Marketing Company, Kincaid Generation, L.L.C., Lake Road Generating Company, LLC, Liberty Electric Power, LLC, Luminant Energy Company LLC, Massachusetts Gas & Electric, Inc., MASSPOWER, Milford Power Company, LLC, North Jersey Energy Associates, A Limited Partnership, Ontelaunee Power Operating Company, LLC, Pleasants Energy, LLC, Public Power & Utility of Maryland, LLC, Public Power & Utility of NY, Inc, Public Power, LLC, Public Power (PA), LLC, Richland-Stryker Generation LLC, Sithe/Independence Power Partners, L.P., TriEagle Energy, LP, Viridian Energy, LLC, Viridian Energy NY, LLC, Viridian Energy PA, LLC.

Description: Triennial Market Power Update for the Northeast Region of the Vistra MBR Sellers.

Filed Date: 6/30/20.

Accession Number: 20200630-5530.

Comments Due: 5 p.m. ET 8/31/20.

Docket Numbers: ER19-675-003.

Applicants: Public Service Company of Colorado.

Description: Compliance filing: OATT-Att O-SPS DistribRates-Compl-GSEC_ER19-675 to be effective 8/1/2019.

Filed Date: 7/1/20.

Accession Number: 20200701-5356.

Comments Due: 5 p.m. ET 7/22/20.

Docket Numbers: ER19-1074-004; ER11-3942-022; ER19-1075-004; ER19-529-004; ER19-2429-003.

Applicants: Brookfield Energy Marketing Inc., Brookfield Energy Marketing LP, Brookfield Renewable Energy Marketing US, LLC, Brookfield Renewable Trading and Marketing, LP, Brookfield Smoky Mountain Hydropower LP.

Description: Updated Market Power Analysis for the Southeast Region of Brookfield Energy Marketing Inc., et. al.

Filed Date: 6/30/20.

Accession Number: 20200630-5516.

Comments Due: 5 p.m. ET 8/31/20.

Docket Numbers: ER19-2621-001; ER19-666-001; ER19-667-002; ER19-669-002.

Applicants: FirstLight Power Management LLC, FirstLight CT Housatonic LLC, FirstLight MA Hydro LLC, Northfield Mountain LLC.

Description: Updated Market Power Analysis for the Northeast Region of FirstLight Power Management LLC, et al. et al.

Filed Date: 6/30/20.

Accession Number: 20200630-5504.

Comments Due: 5 p.m. ET 8/31/20.

Docket Numbers: ER20-1668-002.

Applicants: Dominion Energy South Carolina, Inc.

Description: Tariff Amendment: LGIP Modifications Amendment to be effective 8/31/2020.

Filed Date: 7/1/20.

Accession Number: 20200701-5366.

Comments Due: 5 p.m. ET 7/22/20.

Docket Numbers: ER20-1779-001.

Applicants: Midcontinent Independent System Operator, Inc., ALLETE, Inc.

Description: Tariff Amendment: 2020-06-30_SA 3326 MP-BPU Substitute 1st Rev T-T (Brainerd) to be effective 12/31/9998.

Filed Date: 6/30/20.

Accession Number: 20200630-5146.

Comments Due: 5 p.m. ET 7/21/20.

Docket Numbers: ER20-2289-000.

Applicants: Southwest Power Pool, Inc.

Description: § 205(d) Rate Filing: 3704 Union Electric, Evergy Missouri West & MISO Int Agr to be effective 8/30/2020.

Filed Date: 7/1/20.

Accession Number: 20200701-5279.

Comments Due: 5 p.m. ET 7/22/20.

Docket Numbers: ER20-2290-000.

Applicants: American Electric Power Service Corporation, AEP Indiana Michigan Transmission Company, Indiana Michigan Power Company, PJM Interconnection, L.L.C.

Description: § 205(d) Rate Filing: AEP submits ILDSAs, SA Nos. 1446, 1447, 1448, 1450, 1451, 1455, and 5120 to be effective 6/1/2020.

Filed Date: 7/1/20.

Accession Number: 20200701-5284.

Comments Due: 5 p.m. ET 7/22/20.

Docket Numbers: ER20-2291-000.

Applicants: Evergy Missouri West, Inc.

Description: § 205(d) Rate Filing: Notice of Succession and Notice of Termination to be effective 8/16/2020.

Filed Date: 7/1/20.

Accession Number: 20200701-5294.

Comments Due: 5 p.m. ET 7/22/20.

Docket Numbers: ER20-2292-000.

Applicants: Tri-State Generation and Transmission Association, Inc.

Description: § 205(d) Rate Filing: Filing of Member Project Contracts, BP 101, and BP 115 (1) to be effective 7/2/2020.

Filed Date: 7/1/20.

Accession Number: 20200701-5307.

Comments Due: 5 p.m. ET 7/22/20.

Docket Numbers: ER20-2293-000.

Applicants: Tri-State Generation and Transmission Association, Inc.

Description: § 205(d) Rate Filing: Filing of Member Project Contracts, BP 101, and BP 115 (2) to be effective 7/2/2020.

Filed Date: 7/1/20.

Accession Number: 20200701-5318.

Comments Due: 5 p.m. ET 7/22/20.

Docket Numbers: ER20-2294-000.

Applicants: Tri-State Generation and Transmission Association, Inc.

Description: § 205(d) Rate Filing: Filing of Member Project Contracts, BP 101, and BP 115 (3) to be effective 7/2/2020.

Filed Date: 7/1/20.

Accession Number: 20200701-5324.

Comments Due: 5 p.m. ET 7/22/20.

Docket Numbers: ER20-2295-000.

Applicants: Nevada Power Company.

Description: § 205(d) Rate Filing: Rate Schedule No. 117 NPC/SPPC/Great Basin 2nd Amendment to be effective 8/31/2020.

Filed Date: 7/1/20.

Accession Number: 20200701-5350.

Comments Due: 5 p.m. ET 7/22/20.

Docket Numbers: ER20-2296-000.

Applicants: Golden State Water Company.

Description: Tariff Cancellation: Notice of Cancellation of Market-Based Rate Tariff to be effective 7/2/2020.

Filed Date: 7/1/20.

Accession Number: 20200701-5358.

Comments Due: 5 p.m. ET 7/22/20.

Docket Numbers: ER20-2297-000.

Applicants: Evergy Kansas South, Inc.

Description: § 205(d) Rate Filing: Notice of Termination to be effective 8/29/2020.

Filed Date: 7/1/20.

Accession Number: 20200701-5376.

Comments Due: 5 p.m. ET 7/22/20.

Docket Numbers: ER20-2298-000.

Applicants: NorthWestern Corporation.

Description: § 205(d) Rate Filing: Revised Rate Schedule 188—Puget Annual True-Up to be effective 9/1/2020.

Filed Date: 7/2/20.

Accession Number: 20200702-5006.

Comments Due: 5 p.m. ET 7/23/20.

Docket Numbers: ER20-2299-000.

Applicants: Midcontinent Independent System Operator, Inc.

Description: § 205(d) Rate Filing: 2020-07-02_SA 3175 Deltas Edge—EMI 1st Rev GIA (J679) to be effective 6/19/2020.

Filed Date: 7/2/20.

Accession Number: 20200702-5043.

Comments Due: 5 p.m. ET 7/23/20.

Docket Numbers: ER20-2300-000.

Applicants: East Fork Wind Project, LLC.

Description: § 205(d) Rate Filing: Notice of Change in Category Status of ENGIE MBR Sellers to be effective 9/1/2020.

Filed Date: 7/2/20.

Accession Number: 20200702-5071.

Comments Due: 5 p.m. ET 7/23/20.

Docket Numbers: ER20-2301-000.

Applicants: ENGIE Energy Marketing NA, Inc.

Description: § 205(d) Rate Filing: Notice of Change in Category Status of ENGIE MBR Sellers to be effective 9/1/2020.

Filed Date: 7/2/20.

Accession Number: 20200702-5073.

Comments Due: 5 p.m. ET 7/23/20.

Docket Numbers: ER20-2302-000.

Applicants: ENGIE Portfolio Management, LLC.

Description: § 205(d) Rate Filing: Notice of Change in Category Status of ENGIE MBR Sellers to be effective 9/1/2020.

Filed Date: 7/2/20.

Accession Number: 20200702-5080.

Comments Due: 5 p.m. ET 7/23/20.

Docket Numbers: ER20-2303-000.

Applicants: ENGIE Resources LLC.

Description: § 205(d) Rate Filing: Notice of Change in Category Status of ENGIE MBR Sellers to be effective 9/1/2020.

Filed Date: 7/2/20.

Accession Number: 20200702-5082.

Comments Due: 5 p.m. ET 7/23/20.

Docket Numbers: ER20-2304-000.

Applicants: ENGIE Retail, LLC.

Description: § 205(d) Rate Filing: Notice of Change in Category Status of ENGIE MBR Sellers to be effective 9/1/2020.

Filed Date: 7/2/20.

Accession Number: 20200702-5084.

Comments Due: 5 p.m. ET 7/23/20.

Docket Numbers: ER20-2305-000.

Applicants: Plymouth Rock Energy, LLC.

Description: § 205(d) Rate Filing: Notice of Change in Category Status of ENGIE MBR Sellers to be effective 9/1/2020.

Filed Date: 7/2/20.

Accession Number: 20200702-5085.

Comments Due: 5 p.m. ET 7/23/20.

Docket Numbers: ER20-2306-000.

Applicants: Solomon Forks Wind Project, LLC.

Description: § 205(d) Rate Filing: Notice of Change in Category Status of ENGIE MBR Sellers to be effective 9/1/2020.

Filed Date: 7/2/20.

Accession Number: 20200702-5087.

Comments Due: 5 p.m. ET 7/23/20.

Docket Numbers: ER20-2307-000.

Applicants: Midcontinent Independent System Operator, Inc., Ameren Illinois Company.

Description: § 205(d) Rate Filing: 2020-07-02_SA 3410 Termination of AIC-SIPC Exclusive As-Available Service Agrmt to be effective 7/3/2020.

Filed Date: 7/2/20.

Accession Number: 20200702-5088.

Comments Due: 5 p.m. ET 7/23/20.

Docket Numbers: ER20-2308-000.

Applicants: PJM Interconnection, L.L.C.

Description: § 205(d) Rate Filing: End of Life Joint Stakeholder Proposal Filing to be effective 1/1/2021.

Filed Date: 7/2/20.

Accession Number: 20200702-5115.

Comments Due: 5 p.m. ET 7/23/20.

Take notice that the Commission received the following electric securities filings:

Docket Numbers: ES20-41-000.

Applicants: Southern Indiana Gas and Electric Company, Inc.

Description: Amendment [Exhibits C, D & E] to June 2, 2020 Application Under Section 204 of the Federal Power Act for Authorization to Issue Securities of Southern Indiana Gas and Electric Company, Inc.

Filed Date: 6/30/20.

Accession Number: 20200630-5514.

Comments Due: 5 p.m. ET 7/6/20.

Docket Numbers: ES20-41-000.

Applicants: Southern Indiana Gas and Electric Company, Inc.

Description: Amendment [Paragraph I(e)(3), [Pages 6-7] to June 2, 2020 Application Under Section 204 of the Federal Power Act for Authorization to Issue Securities of Southern Indiana Gas and Electric Company, Inc.

Filed Date: 6/30/20.

Accession Number: 20200630-5515.

Comments Due: 5 p.m. ET 7/6/20.

Docket Numbers: ES20-47-000.

Applicants: El Paso Electric Company.

Description: Application for Renewal of Section 204 Authorization of El Paso Electric Company.

Filed Date: 6/30/20.

Accession Number: 20200630-5524.

Comments Due: 5 p.m. ET 7/6/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 2, 2020.
Nathaniel J. Davis, Sr.,
Deputy Secretary.

[FR Doc. 2020-14805 Filed 7-8-20; 8:45 am]

BILLING CODE 6717-01-P